INTERNATIONAL TRADE COMMISSION

[Investigation No. 337-TA-1078]

Certain Amorphous Metal and Products Containing Same; Amending the Complaint and Notice of Investigation

AGENCY: U.S. International Trade Commission.

ACTION: Notice.

SUMMARY: Notice is hereby given that the U.S. International Trade Commission has determined not to review the presiding administrative law judge's (“ALJ”) initial determination (“ID”) (Order No. 12), which granted a motion to amend the complaint and notice of investigation.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on October 30, 2017, based on a complaint filed by Metglas, Inc. of Conway, South Carolina and Hitachi Metals, Ltd. of Tokyo, Japan. 82 FR 50156 (Oct. 30, 2017). The complaint alleged violations of section 337 of the Tariff Act of 1930, as amended, 19 U.S.C. 1337 by reason of misappropriation of trade secrets. Id. The notice of investigation named as respondents AT&M International Trading Co., Ltd. (“AT&M”), CISRI International Trading Co., Ltd., and Beijing ZLJG Amorphous Technology Co., Ltd., each of Beijing, China; as well as Qingdao Yunlu Energy Technology Co. of Qingdao, China. Id. at 50157. The Office of Unfair Import Investigations was also named as a party. Id.

On April 10, 2018, the complainants moved for leave to amend the complaint and notice of investigation for two reasons. First, the complainants sought to add as a respondent AT&M-NARI Amorphous Technology Co., Ltd. (“AT&M-NARI”) of Zhouzhou, China. Second, the complainants sought to make corrections to the names of two existing respondents: Advanced Technology & Materials Beijing ZLJG Amorphous Technology Co., Ltd. should be corrected to Beijing ZJLG Amorphous Technology Co., Ltd.; and Qingdao Yunlu Energy Technology Co., Ltd. should be corrected to Qingdao Yunlu Advanced Materials Technology Co., Ltd. The respondents did not oppose the motion and on April 17, 2018, the Commission investigative attorney responded in support of the motion.

On April 18, 2018, the ALJ granted the motion as the subject ID. The ID finds that good cause exists for amending the complaint and notice of investigation because the complainants were unaware of AT&M-NARI, and only learned of AT&M-NARI's involvement when existing respondent AT&M identified it in interrogatory responses. ID at 1-2; see 19 CFR 210.14(b)(1).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: May 18, 2018.
Lisa Barton,
Secretary to the Commission.

[FR Doc. 2018-11077 Filed 5-23-18; 8:45 am]

BILLING CODE 7020-02-P